FEDERAL COMMUNICATIONS COMMISSION

47 CFR Part 0

[DA 01-2091]

List of Office of Management and Budget Approved Information Collection Requirements

AGENCY: Federal Communications Commission.

ACTION: Final rule.

SUMMARY: This document revises the Commission's list of Office of Management and Budget (OMB) approved public information collection requirements with their associated OMB expiration dates. This list will provide the public with a current list of public information collection requirements approved by OMB and their associated control numbers and expiration dates as of July 31, 2001.

DATES: Effective September 25, 2001.

FOR FURTHER INFORMATION CONTACT: Judy Boley, Office of the Managing Director, (202) 418-0214 or via the Internet at jboley@fcc.gov.

SUPPLEMENTARY INFORMATION: This document adopted on September 10, 2001 and released on September 18, 2001 by the Managing Director in DA 01-2091 revised 47 CFR 0.408 in its entirety.

1. Section 3507(a)(3) of the Paperwork Reduction Act of 1995, 44 U.S.C. 3507(a)(3), requires agencies to display a current control number assigned by the Director, Office of Management and Budget (“OMB”) for each agency information collection requirement.

2. Section 0.408 of the Commission's rules displays the OMB control numbers assigned to the Commission's public information collection requirements that have been reviewed and approved by OMB.

3. Authority for this action is contained in Section 4(i) of the Communications Act of 1934 (47 U.S.C. 154(i)), as amended, and section 0.231(b) of the Commission's Rules. Since this amendment is a matter of agency organization procedure or practice, the notice and comment and effective date provisions of the Administrative Procedure Act do not apply. See 5 U.S.C. 553(b)(A)(d).

4. Accordingly, It is Ordered, That section 0.408 of the rules is Revised as set forth in the revised text, effective on September 25, 2001.

5. Persons having questions on this matter should contact Judy Boley at (202) 418-0214 or via the Internet to jboley@fcc.gov.

List of Subjects in 47 CFR Part 0

Reporting and recordkeeping requirements.

Federal Communications Commission.
Dated:
Magalie Roman Salas,
Secretary.

For the reasons discussed in the preamble, the Federal Communications Commission amends 47 CFR part 0 as follows:

PART 0—COMMISSION ORGANIZATION

1. The authority citation for Part 0 continues to read:

Authority: Secs. 4, 303, 48 Stat. 1066, 1082, as revised; 47 U.S.C. 154, 303 unless otherwise noted.

2. Section 0.408 is revised to read as follows:

§ 0.408 OMB control numbers and expiration dates assigned pursuant to the Paperwork Reduction Act of 1995.

(a) Purpose. This section displays the control numbers and expiration dates for the Commission information collection requirements assigned by the Office of Management and Budget (“OMB”) pursuant to the Paperwork Reduction Act of 1995, Public Law 104-13. The Commission intends that this section comply with the requirement that agencies display current control numbers and expiration dates assigned by the Director, OMB, for each approved information collection requirement. Not withstanding any other provisions of law, no person shall be subject to any penalty for failing to comply with a collection of information subject to the Paperwork Reduction Act (PRA) that does not display a valid control number. Questions concerning the OMB control numbers and expiration dates should be directed to the Associate Managing Director—Performance Evaluation and Records Management, (“AMD-PERM”) , Federal Communications Commission, Washington, DC 20554.

(b) Display

OMB Control No. | FCC Form Number or 47 CFR section or part, docket No. or title identifying the collection | OMB Expiration date
3060-0004 | Guidelines for Evaluating the Environmental Effects of Radiofrequency Radiation, ET Docket No. 93-62 | (¹)
3060-0009 | FCC 316 | 10/31/02
3060-0010 | FCC 323 | 11/30/02
3060-0012 | FCC 701 | 07/31/03
3060-0016 | FCC 346 | 01/31/04
3060-0017 | FCC 347 | 02/28/03
3060-0020 | FCC 406 | 05/31/02
3060-0021 | FCC 480 | 12/31/03
3060-0024 | Sec. 76.29 | (¹)
3060-0025 | FCC 755 | 08/31/03
3060-0027 | FCC 301 | 08/31/03
3060-0029 | FCC 302-TV | 06/30/04
3060-0031 | FCC 314 | 05/31/04
3060-0032 | FCC 315 | 05/31/04
3060-0034 | FCC 340 | 02/29/04
3060-0049 | FCC 753 | 08/31/03
3060-0053 | FCC 703 | 10/31/02
3060-0054 | FCC 820 | 12/31/01
3060-0055 | FCC 327 | 04/30/03
3060-0056 | FCC 730 | 09/30/01
3060-0057 | FCC 731 and Secs. 2.911, 2.960, and 2.1033(a) | 06/30/03
3060-0059 | FCC 740 | 08/31/03
3060-0061 | FCC 325 | 07/31/02
3060-0062 | FCC 330 | 03/31/02
3060-0065 | FCC 442 | 02/28/02
3060-0066 | FCC 330-R | 07/31/03
3060-0069 | FCC 756 | 09/30/02
3060-0072 | FCC 409 | 11/30/01
3060-0075 | FCC 345 | 10/31/03
3060-0076 | FCC 395 | 02/28/03
3060-0084 | FCC 323-E | 07/31/02
3060-0089 | FCC 503 | 10/30/01
3060-0093 | FCC 405 | 11/30/03
3060-0095 | FCC 395-A | 04/30/03
3060-0105 | FCC 430 | 11/30/03
3060-0106 | Sec. 43.61 | 12/31/02
3060-0110 | FCC 303-S | 07/31/04
3060-0113 | FCC 396 | 04/30/03
3060-0120 | FCC 396-A | 04/30/03
3060-0126 | Sec. 73.1820 | 10/31/02
3060-0127 | FCC 1046 | 03/31/03
3060-0132 | FCC 1068-A | 01/31/04
3060-0139 | FCC 854/854-R/854ULS | 08/31/02
3060-0147 | Sec. 64.804 | 02/28/03
3060-0149 | Part 63, Section 214, Secs. 63.01-63.601 | 11/30/01
3060-0157 | Sec. 73.99 | 05/31/03
3060-0160 | Sec. 73.158 | 01/31/02
3060-0161 | Sec. 73.61 | 12/31/02
3060-0166 | Part 42 | 09/30/01
3060-0168 | Sec. 43.43 | 06/30/03
3060-0169 | Secs. 43.51 and 43.53 | 04/30/02
3060-0170 | Sec. 73.1030 | 03/31/02
3060-0171 | Sec. 73.1125 | 10/31/01
3060-0173 | Sec. 73.1207 | 07/31/04
3060-0174 | Sec. 73.1212 | 07/31/02
3060-0175 | Sec. 73.1250 | 10/31/02
3060-0176 | Sec. 73.1510 | 11/30/02
3060-0178 | Sec. 73.1560 | 01/31/03
3060-0179 | Sec. 73.1590 | 07/31/04
3060-0180 | Sec. 73.1610 | 02/28/02
3060-0181 | Sec. 73.1615 | 12/31/02
3060-0182 | Sec. 73.1620 | 04/30/04
3060-0184 | Sec. 73.1740 | 12/31/01
3060-0185 | Sec. 73.3613 | 10/31/02
3060-0187 | Sec. 73.3594 | 02/29/04
3060-0188 | FCC 380 | 08/31/04
3060-0190 | Sec. 73.3544 | 02/29/04
3060-0192 | Sec. 87.103 | 01/31/04
3060-0194 | Sec. 74.21 | 12/31/01
3060-0202 | Sec. 87.37 | 10/31/03
3060-0204 | Sec. 90.20(a)(2)(v) | 07/31/02
3060-0206 | Part 21 | 07/31/04
3060-0207 | Secs. 11.35, 11.51 and 11.52 | 11/30/02
3060-0208 | Sec. 73.1870 | 04/30/03
3060-0211 | Sec. 73.1943 | (¹)
3060-0212 | Sec. 73.2080 | 04/30/03
3060-0213 | Sec. 73.3525 | 11/30/03
3060-0214 | Sec. 73.3526 | 10/31/02
3060-0215 | Sec. 73.3527 | 10/31/01
3060-0216 | Sec. 73.3538 | 11/30/01
3060-0219 | Sec. 90.20(a)(2)(xi) | 09/30/02
3060-0221 | Sec. 90.155 | 12/31/01
3060-0222 | Sec. 97.213 | 10/31/03
3060-0223 | Sec. 90.129 | 04/30/02
3060-0228 | Sec. 80.59 | 07/31/04
3060-0233 | Part 36 | 07/31/03
3060-0236 | Sec. 74.703 | 06/30/02
3060-0240 | Sec. 74.651 | 02/28/03
3060-0241 | Sec. 74.633 | 02/28/03
3060-0242 | Sec. 74.604 | 02/28/03
3060-0243 | Sec. 74.551 | 05/31/02
3060-0245 | Sec. 74.537 | 05/31/02
3060-0246 | Sec. 74.452 | 08/31/03
3060-0248 | Sec. 74.751 | 06/30/02
3060-0249 | Sec. 74.781 | 04/30/03
3060-0250 | Sec. 74.784 | 02/28/03
3060-0251 | Sec. 74.833 | 09/30/02
3060-0254 | Sec. 74.433 | 08/31/03
3060-0259 | Sec. 90.263 | 10/31/03
3060-0261 | Sec. 90.215 | 04/30/04
3060-0262 | Sec. 90.179 | 12/31/01
3060-0264 | Sec. 80.413 | 10/31/03
3060-0265 | Sec. 80.868 | 07/31/04
3060-0270 | Sec. 90.443 | 11/30/03
3060-0280 | Sec. 90.633(f) & (g) | 08/31/03
3060-0281 | Sec. 90.651 | 05/31/04
3060-0286 | Sec. 80.302 | 04/30/04
3060-0287 | Sec. 78.69 | 10/31/01
3060-0288 | Sec. 78.33 | 03/31/03
3060-0289 | Secs. 76.601, 76.1704, 76.1705 and 76.1717 | 03/31/02
3060-0290 | Sec. 90.517 | 05/31/02
3060-0291 | Sec. 90.477 | 09/30/01
3060-0292 | Part 69 | 11/30/03
3060-0295 | Secs. 90.607(b)(1) & (c)(1) | 03/31/04
3060-0297 | Sec. 80.503 | 10/31/03
3060-0298 | Part 61 | 11/30/01
3060-0307 | Amendment of part 90 of the Commission's Rules to Facilitate Future Development of SMR Systems in the 800 MHz Frequency Band | 06/30/03
3060-0308 | Sec. 90.505 | 04/30/04
3060-0309 | Sec. 74.1281 | 10/31/02
3060-0310 | Sec. 76.1801 | 03/31/03
3060-0311 | Sec. 76.54 | 09/30/02
3060-0313 | Sec. 76.1701 | Pending OMB Approval(¹)
3060-0315 | Sec. 76.1615 | 09/30/02
3060-0316 | Sec. 76.1700 | (¹)
3060-0320 | Sec. 73.1350 | 04/30/04
3060-0321 | Sec. 73.68 | 01/31/02
3060-0325 | Sec. 80.605 | 06/30/02
3060-0326 | Sec. 73.69 | 09/30/02
3060-0329 | Sec. 2.955 | 09/30/02
3060-0331 | Secs. 76.1803 and 76.1804 | 08/31/04
3060-0332 | Secs. 76.614 and 76.1706 | 09/30/01
3060-0340 | Sec. 73.51 | 10/31/03
3060-0341 | Sec. 73.1680 | 08/31/03
3060-0342 | Sec. 74.1284 | 07/31/03
3060-0346 | Sec. 78.27 | 03/31/04
3060-0347 | Sec. 97.311 | 02/28/03
3060-0349 | Secs. 76.73, 76.75, 76.79, and 76.1702 | 04/30/03
3060-0355 | FCC 492 and FCC 492A | 07/31/04
3060-0357 | Sec. 63.701 | 11/31/01
3060-0360 | Sec. 80.409(c) | 08/31/04
3060-0362 | Inspection of Radio Installation on Large Cargo and Small Passenger Ships | 02/28/03
3060-0364 | Secs. 80.409(d) and (e) | 08/31/04
3060-0368 | Sec. 97.523 | 06/30/03
3060-0370 | Part 32 | 06/30/03
3060-0374 | Sec. 73.1690 | 01/31/02
3060-0384 | Sec. 64.904 | 09/30/03
3060-0386 | Sec. 73.1635 | 07/31/02
3060-0387 | Sec. 15.201(d) | 12/31/02
3060-0390 | FCC 395-B | 04/30/03
3060-0391 | Program to Monitor the Impact of Universal Service Support Mechanisms | 12/31/01
3060-0392 | 47 CFR Part 1, Subpart J, Pole Attachment Complaint Procedures | 01/31/04
3060-0393 | Sec. 73.54 | 10/31/02
3060-0394 | Sec. 1.420 | 10/31/02
3060-0395 | FCC Reports 43-02, FCC 43-05 and FCC 43-07 | 06/30/03
3060-0397 | Sec. 15.7(a) | 07/31/03
3060-0398 | Secs. 2.948, 15.117(g)(2) | 02/28/03
3060-0400 | Tariff Review Plan | 05/31/03
3060-0404 | FCC 350 | 05/31/02
3060-0405 | FCC 349 | 03/31/04
3060-0407 | Sec. 73.3598 | 05/31/02
3060-0410 | FCC 495A and FCC 495B | 06/30/03
3060-0411 | FCC 485 | 06/30/04
3060-0414 | Terrain Shielding Policy | 11/30/03
3060-0419 | Secs. 76.94, 76.95, 76.155, 76.156, 76.157, 76.159 and 76.1609 | 10/31/01
3060-0421 | New Service Reporting Requirements under Price Cap Regulation | 05/31/03
3060-0422 | Sec. 68.5 | 10/31/01
3060-0423 | Sec. 73.3588 | 10/31/02
3060-0427 | Sec. 73.3523 | 12/31/03
3060-0430 | Sec. 1.1206 | 09/30/01
3060-0433 | FCC 320 | 03/31/02
3060-0434 | Sec. 90.20(e)(6) | 05/31/02
3060-0435 | Sec. 80.361 | 09/30/02
3060-0436 | Secs. 15.214(c) and 68.200(k) | 12/31/02
3060-0439 | Sec. 64.201 | 03/31/04
3060-0441 | Sec. 90.621(B)(4) | 10/31/03
3060-0449 | Sec. 1.65(c) | 12/31/01
3060-0452 | Sec. 73.3589 | 10/31/02
3060-0454 | Regulation of International Accounting Rates | 04/30/03
3060-0463 | Secs. 64.601-64.605 | 06/30/03
3060-0465 | Sec. 74.985 | 08/31/03
3060-0466 | Sec. 74.1283 | 04/30/03
3060-0470 | Secs. 64.901-64.903, Allocation of Cost, Cost Allocation Manual, RAO Letters 19 and 26 | 05/31/03
3060-0473 | Sec. 74.1251 | 12/31/02
3060-0474 | Sec. 74.1263 | 04/30/03
3060-0475 | Sec. 90.713 | 05/31/02
3060-0481 | FCC 452R | 08/31/03
3060-0483 | Sec. 73.687 | 07/31/03
3060-0484 | Sec. 63.100 | 01/31/02
3060-0488 | Sec. 73.30 | 02/29/04
3060-0489 | Sec. 73.37 | 02/29/04
3060-0490 | Sec. 74.902 | 03/31/04
3060-0491 | Sec. 74.991 | 03/31/04
3060-0492 | Sec. 74.992 | 02/29/04
3060-0493 | Sec. 74.986 | 02/29/04
3060-0494 | Sec. 74.990 | 02/29/04
3060-0496 | FCC Report 43-08 | 03/31/02
3060-0500 | Sec. 76.1713 | Pending OMB Approval
3060-0501 | Secs. 76.206 and 76.1611 | (¹)
3060-0502 | Sec. 73.1942 | (¹)
3060-0506 | FCC 302-FM | 12/31/02
3060-0508 | Rewrite of Part 22 | 08/31/04
3060-0511 | FCC Report 43-04 | 11/30/03
3060-0512 | FCC Report 43-01 | 11/30/03
3060-0513 | FCC Report 43-03 | 11/30/03
3060-0514 | Sec. 43.21(b) | 05/31/03
3060-0515 | Sec. 43.21(c) | 10/31/02
3060-0519 | Rules and Regulations Implementing the Telephone Consumer Protection Act of 1991, CC Docket No. 92-60 | 12/31/01
3060-0526 | Density Pricing Zone Plans, Expanded Interconnection with Local Telephone Company Facilities, CC Docket No. 91-141 | 10/31/02
3060-0531 | Local Multipoint Distribution Service (LMDS) | 10/31/03
3060-0532 | Secs. 2.1033(b)(11) and 15.121 | 08/31/02
3060-0537 | Sec. 13.217 | 05/31/02
3060-0540 | Tariff Filing Requirements for Nondominant Common Carriers | 05/31/02
3060-0543 | Sec 21.913 | 09/30/02
3060-0544 | Sec. 76.701 | 12/31/03
3060-0546 | Definition of Markets for Purposes of the Cable Television Mandatory Television Broadcast Signal Carriage Rules | 03/31/03
3060-0548 | Secs. 76.56, 76.1614, 76.1620, 76.1708, and 76.1709 | 10/31/01
3060-0550 | FCC 328 | 10/31/02
3060-0551 | Secs. 76.1002 and 76.1004 | 10/31/03
3050-0554 | Sec. 87.199 | 06/30/02
3060-0556 | Sec. 80.1061 | 06/30/02
3060-0560 | Sec. 76.911 | (¹)
3060-0561 | Sec. 76.913 | 10/31/03
3060-0562 | Sec. 76.916 | 07/31/04
3060-0564 | Sec. 76.924 | 12/31/02
3060-0565 | Sec. 76.944 | 10/31/03
3060-0567 | Sec. 76.962 | 02/28/02
3060-0568 | Commercial Leased Access Rates, Terms, & Conditions | 06/30/03
3060-0569 | Sec. 76.975 | 06/30/03
3060-0570 | Sec. 76.982 | 07/31/04
3060-0572 | Filing Manual for Annual International Circuit Status Reports | 10/31/02
3060-0573 | FCC 394 | 12/31/02
3060-0574 | FCC 395-M | 04/30/03
3060-0580 | Sec. 76.504 | 08/31/03
3060-0581 | Sec. 76.503 | 05/31/03
3060-0584 | FCC 44 and FCC 45 | 12/31/02
3060-0589 | FCC 159 and FCC 159-C | 08/31/03
3060-0594 | FCC 1220 | 06/30/04
3060-0595 | FCC 1210 | (¹)
3060-0599 | Implementation of Sections 3(n) and 332 of the Communications Act | 01/31/04
3060-0600 | FCC 175 and FCC 175-S | 04/30/04
3060-0601 | FCC 1200 | 06/30/04
3060-0602 | Sec. 76.917 | 04/30/03
3060-0607 | Sec. 76.922 | 10/31/03
3060-0609 | Sec. 76.934(e) | 07/31/04
3060-0610 | Sec. 76.1606 | 07/31/04
3060-0611 | Sec. 74.783 | 08/31/03
3060-0613 | Expanded Interconnection with Local Telephone Company Facilities, CC Docket No. 91-141, Transport Phase II | 08/31/03
3060-0621 | Rules and Requirements for C & F Block Broadband PCS Licenses | 04/30/04
3060-0624 | Sec. 24.103(f) | 04/30/04
3060-0625 | Amendment of the Commission's Rules to Establish New Personal Communications Services under Part 24 | 03/31/04
3060-0626 | Regulatory Treatment of Mobile Services | 05/31/04
3060-0627 | FCC 302-AM | 12/31/02
3060-0629 | Sec. 76.1605 | 07/31/04
3060-0630 | Sec. 73.62 | 09/30/01
3060-0633 | Secs. 73.1230, 74.165, 74.432, 74.564, 74.664, 74.765, 74.832, 74.965 and 74.1265 | 08/31/04
3060-0634 | Sec. 73.691 | 04/30/04
3060-0636 | Equipment Authorization—Declaration of Compliance—Amendment of Parts 2 and 15 | 10/31/02
3060-0638 | Sec. 76.934(g) | 02/28/02
3060-0641 | FCC 218-I | 10/31/02
3060-0644 | FCC 1230 | 02/28/02
3060-0645 | Antenna Registration, Part 17 | 04/30/02
3060-0647 | Annual Survey of Cable Industry Prices | 04/30/03
3060-0648 | Sec. 21.902 | 11/30/02
3060-0649 | Secs. 76.1601, 76.1607, 76.1617, and 76.1708 | 12/31/01
3060-0652 | Secs. 76.309, 76.1602, 76.1603, and 76.1619 | 10/31/01
3060-0653 | Consumer Information—Posting by Aggregators, Secs. 64.703(b) and (c) | 01/31/02
3060-0654 | FCC 304 | 10/31/01
3060-0655 | Request for Waivers of Regulatory and Application Fees Predicated on Allegations of Financial Hardship | (¹)
3060-0656 | FCC 175-M | 11/30/01
3060-0657 | Sec. 21.956 | 09/30/01
3060-0658 | Sec. 21.960 | 11/30/01
3060-0660 | Sec. 21.937 | 09/30/01
3060-0661 | Sec. 21.931 | 10/31/01
3060-0662 | Sec. 21.930 | 09/30/01
3060-0663 | Sec. 21.934 | 09/30/02
3060-0664 | FCC 304-A | 10/31/01
3060-0665 | Sec. 64.707 | 01/31/02
3060-0667 | Secs. 76.630, 76.1612, and 76.1622 | 10/31/01
3060-0668 | Sec. 76.936 | 03/31/02
3060-0669 | Sec. 76.946 | 05/31/02
3060-0673 | Sec. 76.956 | 03/31/02
3060-0674 | Secs. 76.1603 and 76.1618 | 06/30/02
3060-0678 | FCC 312, FCC 312-EZ, FCC 312-R, FCC 312-M, and FCC-312 Schedules | 02/29/04
3060-0681 | Toll-Free Service Access Codes, Part 52, Subpart D, Secs. 52.101—52.111 | 09/30/03
3060-0683 | Direct Broadcast Satellite Service, Part 100 | 10/31/03
3060-0684 | Amendment to the Commission's Rules Regarding a Plan for Sharing the Costs of Microwave Relocation, WT Docket No. 95-157 | 01/31/04
3060-0685 | FCC 1240 | 08/31/04
3060-0686 | Streamlining the International Section 214 Authorization Process and Tariff Requirements | 03/31/04
3060-0687 | Access to Telecommunications Equipment and Services by Persons with Disabilities | 05/31/02
3060-0688 | FCC 1235 | 07/31/02
3060-0690 | Rules Regarding the 37.0—38.6 GHz and 38.6-40.0 GHz Bands | 12/31/02
3060-0691 | Amendment of Parts 2 and 90 of the Commission's Rules to Provide for the Use of 200 Channels Outside the Designated Filing Areas in the 896-901 MHz Bands Allotted to Specialized Mobile Radio Service | 04/30/04
3060-0692 | Home Wiring Provisions | 05/31/04
3060-0695 | Sec. 87.219 | 03/31/02
3060-0697 | Parts 22 and 90 to Facilitate Future Development of Paging Systems | 10/31/03
3060-0698 | Amendment of the Commission's Rules to Establish a Radio Astronomy Coordination Zone in Puerto Rico | 05/31/04
3060-0700 | FCC 1275 | 12/31/03
3060-0702 | Amendment to Parts 20 and 24 of the Commission's Rules, Broadband PCS Competitive Bidding and the Commercial Mobile Radio Service Spectrum Cap | 03/31/04
3060-0703 | FCC 1205 | 11/30/02
3060-0704 | Public Disclosure Requirement Amended, CC Docket No. 96-61 | 09/30/02
3060-0706 | Cable Act Reform | 06/30/02
3060-0707 | Over-the Air Reception Devices | 05/31/02
3060-0710 | Policy and Rules Concerning the Implementation of the Local Competition Provisions in the Telecommunications Act of 1996—CC Docket No. 96-98 | 08/31/03
3060-0711 | Implementation of Section 34(a)(1) of the Public Utility Holding Company Act of 1935, as amended by the Telecommunications Act of 1996, Secs. 1.5001 through 1.5007 | 12/31/03
3060-0713 | Alternative Broadcast Inspection Program (ABIP) Compliance Notification | 08/31/02
3060-0714 | Antenna Registration Number Required as Supplement to Application Forms | 11/30/02
3060-0715 | Implementation of the Telecommunications Act of 1996: Telecommunications Carriers' Use of Customer Proprietary Network Information and Other Customer Information—CC Docket No. 96-115 | (¹)
3060-0716 | Blanketing Interference | 04/30/03
3060-0717 | Billed Party Preference for InterLATA Calls, Secs. 64.703(a), 64.709, and 64.710 | 07/31/04
3060-0718 | Part 101 Governing the Terrestrial Microwave Fixed Radio Service | 10/31/02
3060-0719 | Quarterly Report of IntraLATA Carriers Listing Pay Phone Automatic Number Identifications (ANIs) | 10/31/03
3060-0723 | Public Disclosure of Network Information by Bell Operating Companies | 09/30/03
3060-0725 | Annual Filing of Nondiscrimination Reports (on Quality of Service, Installation, and Maintenance) by Bell Operating Companies (BOC's) | 08/31/03
3060-0726 | Quarterly Report of Interexchange Carriers Listing the Number of Dial-Around Calls for Which Compensation is Being Paid to Pay Phone Owners | 08/31/03
3060-0727 | Sec. 73.213 | 11/30/03
3060-0728 | Supplemental Information Requesting FCC Registration Number (FRN) for Debt Collection | 08/31/03
3060-0732 | Consumer Education Concerning Wireless 911 | 04/30/03
3060-0734 | Accounting Safeguards, 47 U.S.C. Sections 260, 271-276, and 47 CFR Secs. 53.209, 53.211 and 53.213, SEC Form 10-K | 06/30/03
3060-0736 | Implementation of the Non-Accounting Safeguards of Sections 271 and 272 of the Communications Act of 1934, as amended—CC Docket No. 96-149 | (¹)
3060-0737 | Disclosure Requirements for Information Services Provided Under a Presubscription or Comparable Arrangement | 03/31/03
3060-0739 | Amendment of the Commission's Rules to Establish Competitive Safeguards for Local Exchange Carrier Provisions of Commercial Mobile Radio Services | 01/31/02
3060-0740 | Sec. 95.1015 | 11/30/02
3060-0741 | Implementation of the Local Competition Provisions on the Telecommunications Act of 1996—CC Docket No. 96-98 | 04/30/04
3060-0742 | Telephone Number Portability, Part 52, Subpart C, Secs. 52.21—52.33 | 09/30/03
3060-0743 | Implementation of the Pay Telephone Reclassification and Compensation Provisions of the Telecommunications Act of 1996—CC Docket No. 96-128 | 10/31/03
3060-0745 | Implementation of the Local Exchange Carrier Tariff Streamlining Provisions, CC Docket No. 96-187 | 12/31/03
3060-0748 | Disclosure Requirements for Information Services Provided through Toll-Free Numbers, Sec. 64.1504 | 07/31/03
3060-0749 | Sec. 64.1509 | 07/31/03
3060-0750 | Sec. 73.673 | 05/31/03
3060-0751 | Reports Concerning International Private Lines Interconnected to the U.S. Public Switched Network | 05/31/03
3060-0752 | Billing Disclosure Requirements for Pay-Per-Call and Other Information Services, Sec. 64.1510 | 07/31/03
3060-0754 | FCC 398 | 06/30/04
3060-0755 | Infrastructure Sharing, Secs. 59.1—59.4 | 05/31/03
3060-0756 | Procedural Requirements and Policies for Commission Processing of Bell Operating Company (BOC) Applications for the Provision of In-Region, InterLATA Services under Section 271 of the Telecommunications Act of 1996 | 10/31/01
3060-0757 | FCC Auctions Customer Survey | 01/31/04
3060-0758 | Amendment of Part 5 of the Commission's Rules to Revise the Experimental Radio Service Regulations, ET Docket No. 96-256 | 06/30/03
3060-0760 | Access Charge Reform—CC Docket No. 96-262 | 10/31/02
3060-0761 | Closed Captioning of Video Programming | 02/29/04
3060-0763 | FCC Report 43-06 | 03/31/02
3060-0765 | Revision of Parts 22 and 90 of the Commission's Rules to Facilitate Future Development of Paging Systems | 10/31/03
3060-0767 | Auction Forms and License Transfer Disclosures—Supplement for the 2nd R&O, Order on Reconsideration, and 5th NPRM in CC Docket No. 92-297 | 04/30/04
3060-0768 | 28 GHz Band Segmentation Plan Amending the Commission's Rules to Redesignate the 27.5—29.5 GHz Frequency Band, to Reallocate the 29.5—30.0 GHz Frequency Band, and to Establish Rules and Policies for Local Multipoint Distribution Services and for the Fixed Satellite Service | 06/30/03
3060-0769 | Aeronautical Services Transition Plan | 06/30/03
3060-0770 | Price Cap Performance Review for Local Exchange Carriers—CC Docket No. 94-1 (New Services) | 10/31/02
3060-0771 | Sec. 5.61, Procedure for Obtaining a Special Temporary Authorization in the Experimental Radio Service | 12/21/03
3060-0773 | Sec. 2.803, Marketing of RF Devices Prior to Equipment Authorization | 09/30/03
3060-0774 | Federal-State Joint Board on Universal Service—CC Docket No. 96-45, Secs. 36.611 and 36.612 and 47 CFR Part 54 | 06/30/04
3060-0775 | Secs. 64.1901—64.1903 | 09/30/03
3060-0779 | Amendment to Part 90 of the Commission's Rules to Provide for Use of the 220-222 MHz Band by the Private Land Mobile Radio Service, PR Docket No. 89-552 | 04/30/04
3060-0780 | Uniform Rate-Setting Methodology | 11/30/03
3060-0782 | Petitions for Limited Modification of LATA Boundaries to Provide Expanded Local Calling Service (ELCS) at Various Locations | 01/31/04
3060-0783 | Coordination Notification Requirements on Frequencies Below 512 MHz, Sec. 90.176 | 01/31/04
3060-0786 | Petitions for LATA Association Changes by Independent Telephone Companies | 01/31/04
3060-0787 | Implementation of the Subscriber Carrier Selection Changes Provisions of the Telecommunications Act of 1996; Policies and Rules Concerning Unauthorized Changes of Consumers Long Distance, FCC 478 | (¹)
3060-0788 | DTV Showings/Interference Agreements | 08/31/01?
3060-0789 | Modified Alternative Plan, CC Docket No. 90-571 | 05/31/04
3060-0790 | Availability of Inside Wiring Information, Sec. 68.110(c) | 11/30/03
3060-0791 | Accounting for Judgments and Other Costs Associated with Litigation, CC Docket No. 93-240 | 11/30/03
3060-0793 | Procedures for States Regarding Lifeline Consent, Adoption of Intrastate Discount Matrix for Schools and Libraries, and Designation of Eligible Telecommunications Carriers | 08/31/02
3060-0795 | ULS TIN Registration and FCC 606 | 08/31/02
3060-0798 | FCC 601 | 03/31/04
3060-0799 | FCC 602 | 02/28/02
3060-0800 | FCC 603 | 01/31/02
3060-0801 | Amendment of the Commission's Rules Regarding Installment Payment Financing for Personal Communications Services (PCS) Licenses, WT Docket No. 97-82 | 08/31/02
3060-0802 | Message Intercept Requirement | 11/30/01
3060-0804 | Health Care Providers Universal Service Program—FCC 465, FCC 466, FCC 466-A, FCC 467, and FCC 468 | (¹)
3060-0805 | Sec. 90.527 | 12/31/01
3060-0806 | Universal Service, Schools and Libraries Program, FCC 470 and 471 | 03/31/04
3060-0807 | 47 CFR 51.803 and Supplemental Procedures for Petitions to Section 252(e)(5) of the Communications Act of 1934, as amended | 04/30/04
3060-0809 | Communications Assistance for Law Enforcement Act (CALEA) | 04/30/03
3060-0810 | Procedures for Designation of Eligible Telecommunications Carriers Pursuant to Section 214(e)(6) of the Communications Act of 1934, as amended | 03/31/04
3060-0812 | Assessment and Collection of Regulatory Fees | 08/31/02
3060-0813 | Revision of the Commission's Rules to Ensure Compatibility with Enhanced 911 Calling Systems | 07/31/04
3060-0814 | Local Switching Support and Local Switching Support Data Collection Form and Instructions, Sec. 54.301 | 09/30/01
3060-0816 | Local Competition and Broadband Reporting, CC Docket No. 99-301 | 11/30/03
3060-0817 | Computer III Further Remand Proceedings: BOC Provision of Enhanced Services (ONA Requirements), CC Docket No. 95-20 | 08/31/03
3060-0819 | Lifeline Assistance (Lifeline) Connection Assistance (Link Up) Reporting Worksheet and Instructions, 47 CFR 54.400—54.417, FCC 497 | 05/31/04
3060-0820 | Transfers of Control Involving Telecommunications Carriers | 09/30/01
3060-0823 | Pay Telephone Reclassification, Memorandum Opinion and Order, CC Docket No. 96-128 | 12/31/01
3060-0824 | FCC 498 | (¹)
3060-0827 | Request for Radio Station License Update | 09/30/01
3060-0833 | Implementation of Section 255 of the Telecommunications Act of 1996: Complaint Filings/Designation of Agents | (¹)
3060-0834 | Reconsideration of Rules and Policies for the 220-222 MHz Radio Service | 12/31/01
3060-0835 | Ship Inspection Certificates, FCC 806, FCC 824, FCC 827 and FCC 829 | 03/31/02
3060-0837 | FCC 302-DTV | 05/31/03
3060-0840 | Access Charge Reform for Incumbent Local Exchange Carriers Subject to Rate-of-Return Regulation—CC Docket No. 98-77 | 09/30/01
3060-0841 | Public Notice, Additional Processing Guidelines for DTV | 04/30/02
3060-0844 | Carriage of the Transmissions of Digital Television Broadcast Stations | 10/31/01
3060-0848 | Deployment of Wireline Services Offering Advanced Telecommunications Capability—CC Docket No. 98-147 | 05/31/04
3060-0849 | Commercial Availability of Navigation Devices | 10/31/01
3060-0850 | FCC 605 | 06/30/04
3060-0851 | FCC 305 | 12/31/01
3060-0852 | FCC 306 | 12/31/01
3060-0853 | FCC 486, FCC 500, and FCC 479 | 12/31/01
3060-0854 | Truth-in-Billing Format, CC Docket No. 98-170 | 03/31/04
3060-0855 | FCC 499, FCC 499-Q | 07/31/04
3060-0856 | FCC 472, FCC 473, FCC 474 | 05/31/02
3060-0857 | Annual Reporting Requirement for Blanket Licensing of Ka-band Satellite Earth Station | 12/31/01
3060-0858 | State Public Safety Plan Requirements and Year 2000 Readiness | 01/31/02
3060-0859 | Suggested Guidelines for Petitions for Ruling under Section 253 of the Communications Act | 04/30/03
3060-0862 | Handling Confidential Information | 05/31/02
3060-0863 | Satellite Delivery of Network Signals to Unserved Households for Purposes of the Satellite Home Viewer Act | 07/31/02
3060-0864 | Data to Determine Percentage of Interstate Telecommunications Revenues from Wireless Carriers and Submission of Data to Determine Eligibility | 02/28/02
3060-0865 | Wireless Telecommunications Bureau Universal Licensing System Recordkeeping and Third-Party Disclosure Requirements | 10/31/03
3060-0867 | Request for Waiver of Section 20.18(c) of the Commission's Rules Regarding Compatibility with Enhanced 911 Emergency Calling Systems | 07/31/02
3060-0874 | FCC 475 | (¹)
3060-0876 | USAC Board of Directors Nomination Process, Sec. 54.703 and Review of Administrator's Decision, Secs. 54.719—54.725 | 04/30/03
3060-0878 | Wireless E911 Rule Waivers for Handset-Based Approaches to Phase II ALI Requirements | 08/31/02
3060-0881 | Sec. 95.861 | 04/30/02
3060-0882 | Sec. 95.833 | 12/31/02
3060-0886 | Sec. 73.3534 | 05/31/02
3060-0888 | Cable Television Service Pleading and Complaint Rules—Part 76 | 06/30/02
3060-0891 | FCC 330-A | 07/31/02
3060-0892 | Direct Broadcast Satellite Public Interest Obligations | 07/31/02
3060-0893 | Universal Licensing Service (ULS) Pre-Auction Database Corrections | 09/30/03
3060-0894 | Certification Letter Accounting for Receipt of Federal Support | 05/31/03
3060-0895 | Numbering Resource Optimization, FCC 502 | 01/31/04
3060-0896 | Broadcast Auction Form Exhibits | 07/31/02
3060-0897 | MDS and ITFS Two-Way Transmissions | 04/30/04
3060-0900 | Compatibility of Wireless Services with Enhanced 911—CC Docket No. 94-102 | 12/31/02
3060-0901 | Reports of Common Carriers and Affiliates | 04/30/03
3060-0905 | Regulations for RF Lighting Devices, Part 18, Sec. 18.307 | 11/30/02
3060-0906 | FCC 317 | 08/31/03
3060-0910 | Revision of the Commission's Rules to Ensure Compatibility with Enhanced 911 Emergency Calling Systems | 03/31/03
3060-0912 | Cable Attribution Rules | 04/30/03
3060-0914 | Petition, Pursuant to Section 7 of the Act, for a Waiver of the Airborne Cellular Rule, or in the Alternative, for a Declaratory Ruling | 04/30/04
3060-0915 | Public Notice—Information on Medical Telemetry Equipment Operating in the 450-460 MHz Band | 03/31/03
3060-0916 | 406 MHz Personal Locator Beacons (PLB's) | 04/30/03
3060-0917 | FCC 160 | 08/31/03
3060-0918 | FCC 161 | 08/31/03
3060-0919 | FCC 162 | 08/31/03
3060-0920 | FCC 318 | 10/31/03
3060-0921 | Petitions for LATA Boundary Modification for the Deployment of Advanced Services | 08/31/03
3060-0922 | FCC 397 | 04/30/03
3060-0923 | Election Statement | 04/30/03
3060-0924 | Creation of Low Power Radio Service | 04/30/03
3060-0926 | Transfer of the Bands from Federal Government Use: NPRM | 01/31/04
3060-0927 | Auditor's Annual Independence and Objectivity Certification | 05/31/03
3060-0928 | FCC 302-CA | 12/31/03
3060-0929 | FCC 331 | 02/29/04
3060-0930 | Implementation of the Satellite Home Viewer Improvement Act (SHVIA) of 1999; Enforcement Procedures for Retransmission Consent Violations Conforming to Section 325(e) of the Communications Act of 1934, as amended | 12/31/02
3060-0931 | Maritime Mobile Service Indentity (MMSI) | 06/30/03
3060-0932 | FCC 301-CA | 11/30/03
3060-0933 | FCC 460 | 11/30/03
3060-0934 | FCC 731-TC | 01/31/04
3060-0935 | Cable Industry Survey on Channel Capacity and Retransmission Consent | 2/31/03
3060-0936 | Sec. 95.1215, Disclosure Policies; Sec. 95.1217, Labeling Requirements | 07/31/03
3060-0937 | Establishment of a Class A Television Service, MM Docket No. 00-10 | 01/31/04
3060-0938 | FCC 319 | 07/31/03
3060-0939 | E911, Second Memorandum Opinion and Order | 05/31/04
3060-0940 | Amendment of Part 95 of the Commission's Rulesto Provide Regulatory Flexibility in the 218-219 MHz Service, WT Docket No. 98-169 | 07/31/03
3060-0942 | Access Charge Reform, Price Cap Performance Review for Local Exchange Carriers, Low-Volume Long Distance Users, Federal-State Join Board on Universal Service | 01/31/04
3060-0943 | Sec. 54.809 | 12/31/03
3060-0944 | Review of Commission Consideration of Applications Under the Cable Landing License Act | 08/31/03
3060-0945 | Sec. 79.2 | 08/31/03
3060-0947 | Sec. 101.1327 | 09/30/03
3060-0948 | Noncommercial Educational Applicants | 01/31/04
3060-0949 | FCC 159-W | 10/31/03
3060-0950 | Extending Wireless Telecommunications Servicesto Tribal Lands, WT Docket No. 99-266 | 04/30/04
3060-0951 | Service of Petitions for Preemption, 47 CFR Sec. 1.1204(b) Note, and Sec. 1.1206(a) Note 1 | 01/31/04
3060-0952 | Proposed Demographic Information and Notifications | 10/31/03
3060-0953 | Wireless Medical Telemetry Service, ET Docket No. 99-255 | 10/31/03
3060-0954 | Third NPRM and NPRM Regarding Implementation of the 911 Act | 10/31/03
3060-0955 | 2 GHz Mobile Satellite Service Reports | 02/29/04
3060-0956 | Notification of Emergency Alert System Status | 11/30/03
3060-0957 | Wireless Enhanced 911 Service | 05/31/04
3060-0959 | Compatibility Between Cable Systems and Consumer Electronics Equipment | 05/31/04
3060-0960 | Application of Network Non-Duplication, Syndicated Exclusivity, and Sports Blackout Rules to Satellite Retransmissions | (¹)
3060-0961 | 2000 Biennial Regulatory Review of the Accounting Requirements and ARMIS Reporting Requirements for Incumbent Local Exchange Carriers; Phase 2 and Phase 3, CC Docket No. 00-199 | 01/31/04
3060-0962 | Redesignation of the 18 GHz Frequency Band, Blanket Licensing of Satellite Earth Stations in the Ka-Band, and the Allocation of Additional Spectrum for Broadcast Satellite Service Use | 01/31/04
3060-0963 | Sec. 101.527, Construction Requirements for 24 GHz Operations; Sec. 101.529, Renewal Expectancy Criteria for 24 GHz Licensees | 02/29/04
3060-0966 | Secs. 80.385, 80.475, and 97.303, Automated Marine Telecommunications Service (AMTS) | 02/29/04
3060-0967 | Sec. 79.2 | 02/29/04
3060-0968 | FCC 501 | 07/31/04
3060-0969 | Availability to INTELSAT Space Segment Capacity to Users and Providers Seeking to Access INTELSAT Directly | 02/29/04
3060-0970 | Sec. 90.621(e)(2) | 06/30/04
3060-0971 | Numbering Resource Optimization | (¹)
3060-0972 | Multi-Association Group (MAG) Plan for Regulation of Interstate Services of Non-Price Cap Incumbent Local Exchange Carriers and Interexchange Carriers | 03/31/04
3060-0973 | Sec. 64.1120(e) | 11/30/01
3060-0974 | Proposed Requirements for Secondary Market Transactions, CC Docket No. 99-200 | 04/30/04
3060-0975 | Promotion of Competitive Networks in Local Telecommunications Markets Multiple Environments (47 CFR Parts 1, 64 and 68) | 05/31/04
3060-0977 | Procedures for Reviewing Requests for Relief from State and Local Regulations Pursuant to Section 332(c)(7)(B)(v) of the Communications Act of 1934 | 06/30/04
3060-0978 | Compatibility with E911 Emergency Calling Systems; Fourth Report and Order | 06/30/04
3060-0979 | Spectrum Audit Letter | 10/31/01
3060-0980 | Implementation of the Satellite Home Viewer Improvement Act (SHVIA), Broadcast Signal Carriage Issues, Retransmission Consent Issues | 06/30/04
3060-0981 | 1998 Biennial Review: Streamlining of Cable Television Services, Part 76, Public File and Notice Requirements | 06/30/04
3060-0982 | Implementation of Low Power Television (LPTV) Digital Data Services Pilot Project | 10/31/01
3060-0983 | Standards for Co-Channel and Adjacent Channel Interference in the Land Mobile Radio Service | 07/31/04
3060-0984 | Secs. 90.35(b)(2) and 90.175(b)(1) | 07/31/04
3060-0985 | Public Safety, State Interoperability Channels | 07/31/04
3060-0986 | Federal-State Joint Board on Universal Service, Plan for Reforming the Rural Universal Support Mechanism | 12/31/01
3060-0988 | Election to Freeze part 36 Categories and Allocations | 12/31/01
3060-0989 | Procedures for Applicants Requiring Section 214 Authorization for Domestic Interstate Transmission Lines Acquired Through Corporate Control | 12/31/01
3060-0991 | AM Measurement Data | 01/31/02
3060-0992 | Request for Extension of the Implementation Deadline for Non-Recurring Services, CC Docket No. 96-45 and Sec. 54.507(d)(1)-(4) | 01/31/02
3060-0993 | Establishment of a Class A Television Service | 02/28/02
¹Pending OMB approval.

[FR Doc. 01-23826 Filed 9-24-01; 8:45 am]

BILLING CODE 6712-01-P